DEPARTMENT OF HEALTH AND HUMAN SERVICES

Office of the Secretary

Findings of Research Misconduct; Correction

AGENCY: Office of the Secretary, HHS.

ACTION: Correction of notice.

SUMMARY: This document corrects errors that appeared in the notice published in the August 5, 2022, Federal Register entitled “Findings of Research Misconduct.”

Applicability Date: The correction notice is applicable for the Findings of Research Misconduct notice published on August 5, 2022.

FOR FURTHER INFORMATION CONTACT: Dr. Alexander Runko or Ms. Karen Gorirossi at 240-453-8800.

SUPPLEMENTARY INFORMATION:

I. Background

In FR Doc. 2022-16867 of August 5, 2022 (87 FR 48034-48036), there were errors involving National Institutes of Health (NIH) grant application UL1 TR000124 affecting six paragraphs on page 48035. The errors are identified and corrected in the Correction of Errors section below.

II. Correction of Errors

Due to additional information provided by the institution to the Office of Research Integrity, it was determined that NIH grant application UL1 TR000124 did not fund or contain falsified/fabricated data; therefore, this grant application has been removed from the findings of research misconduct reported in FR Doc. 2022-16867. Thus, in FR Doc. 2022-16867 of August 5, 2022 (87 FR 48034-48036), make the following corrections:

1. On page 48035, first column, in FR Doc. 2022-16867, first paragraph, lines 9-12, remove “UL1 TR000124 submitted to the National Center for Advancing Translational Sciences (NCATS), NIH.”

2. On page 48035, first column, in FR Doc. 2022-16867, fourth paragraph, lines 14-15, remove “UL TR000124 submitted to NCATS, NIH.”

3. On page 48035, first column, in FR Doc. 2022-16867, fifth paragraph, lines 5-6, change “eleven (11) grant applications” to “ten (10) grant applications.”

4. On page 48035, first column, in FR Doc. 2022-16867, seventh paragraph, lines 1-2, and second column, in FR Doc. 2022-16867, first paragraph, lines 1-3, remove “UL1 TR000124, `UCLA Clinical and Translational Science Institute,' submitted to NCATS, NIH, Awarded Project Dates: June 1, 2011-August 31, 2016.”

5. On page 48035, second column, in FR Doc. 2022-16867, thirteenth paragraph, line 1, remove “Figure 6 of UL1 TR000124.”

Dated: September 13, 2022.
Wanda K. Jones,
Acting Director, Office of Research Integrity, Office of the Assistant Secretary for Health.

[FR Doc. 2022-20070 Filed 9-15-22; 8:45 am]

BILLING CODE 4150-31-P